DEPARTMENT OF HEALTH AND HUMAN SERVICES

National Institutes of Health

Notice of Listing of Construction Grant Programs

AGENCY: National Institutes of Health, Department of Health and Human Services.

ACTION: Notice.

SUMMARY: Section 52b.1(b) of the regulations governing National Institutes of Health (NIH) construction grants, codified at 42 CFR part 52b, authorizes the NIH Director to publish periodically a list of the construction grant programs to which the construction grant regulations apply. This Notice announces the most recent list of the programs covered by the regulations.

DATES: Effective Date: July 18, 2006.

FOR FURTHER INFORMATION CONTACT: Jerry Moore, NIH Regulations Officer, Office of Management Assessment, 6011 Executive Boulevard, Room 601, MSC 7669, Rockville, MD 20892, telephone 301-496-4607 (not a toll-free number), fax 301-402-0169, e-mail jm40z@nih.gov.

SUPPLEMENTARY INFORMATION: The NIH published the final rule, “National Institutes of Health Construction Grants,” in the Federal Register, November 22, 1999 (64 FR 63721-63727), revising the regulations at 42 CFR part 52b, (then) titled, National Cancer Institute Construction Grants, for the purpose of making them applicable to all NIH financial assistance programs with construction or modernization grant authority, except for certain alterations and improvements under research project grants and center grants, and to make certain other changes, including retitled them, “National Institutes of Health Construction Grants.” In lieu of specifically listing each NIH construction grant program to which the regulations apply in § 52b.1 of the regulations, the applicability section, we revised § 52b.1 to apply across-the-board to all NIH construction grant programs, except for those few programs specifically excluded by the section. This action has the advantage of assuring that any new NIH construction grant programs enacted by Congress would have implementing regulations without the necessity of having to amend the regulations. The final rule authorized the Director of NIH to publish periodically a list of construction grant programs covered by the regulations. We indicated that the list would be for informational purposes only and would not restrict the applicability of the regulations.

We are publishing this updated list of programs to which the construction grants regulations apply to reflect the extension of authority for construction of research facilities, previously held only by the National Center for Research Resources (NCRR) under section 481A of the Public Health Service (PHS) Act, to the National Institute of Allergy and Infectious Diseases (NIAID), as amended by provisions of the Project Bioshield Act of 2004 (Pub. L. 108-276). As amended, section 481A now authorizes the Director of NIH, acting through the Director of NCRR or the Director of NIAID, to make grants or award contracts to public and nonprofit private entities to expand, remodel, renovate, or alter existing research facilities or construct new research facilities, subject to the provisions of section 481A.

Additionally, we are publishing this updated list of program to reflect the authority of the Director of the National Center on Minority Health and Health Disparities (NCMHD) to make grants to expand, remodel, renovate, or alter existing research facilities or construct new research facilities for the purpose of conducting minority health disparities research and other health disparities research, as authorized under section 485F(b)(2) of the PHS Act, as amended by section 102 of Public Law 106-525, the Minority Health and Health Disparities Research and Education Act of 2000.

The updated listing of construction grant authorities to which the National Institutes of Health Construction Grant regulations, codified at 42 CFR Part 52b, apply includes the following:

(1) Grants for construction or renovation of facilities in carrying out the National Cancer Program, as authorized by section 413(b)(6)(B) of the PHS Act (42 U.S.C. 285a-2(b)(6)(B));

(2) Federal payment under a grant for construction to pay for all or part of the cost of planning, establishing, or strengthening, and providing basic operating support for center for basic and clinical research into, training in, and demonstration of advanced diagnostic, prevention, control, and treatment methods for cancer, as authorized by section 414(b) of the PHS Act (42 U.S.C. 285a-3(b));

(3) Grants for construction or renovation of facilities, to carry out the National Heart, Lung, and Blood Disease and Blood Resources Program, as authorized by section 421(b)(2)(B) of the PHS Act (42 U.S.C. 285b-3(b)(2)(B));

Grants to public or private nonprofit entities to pay all or part of the cost of planning, establishing, or strengthening, and providing basis operating support for centers for basic and clinical research into, training in, and demonstration of the management of blood resources and advanced diagnostic, prevention and treatment methods for heart, blood vessel, lung, or blood diseases, as authorized by section 442(c)(3) of the PHS Act (42 U.S.C. 285b-4(c)(3));

(5) Development and modernization of new and existing centers for arthritis and musculoskeletal diseases, as authorized by section 441(a) of the PHS Act (42 U.S.C. 285d-6(a));

(6) Grants for public and private nonprofit vision research facilities, as authorized under section 455 of the PHS Act (42 U.S.C. 285i);

(7) Development and modernization of new and existing centers for studies of disorders of hearing and other communication processes, as authorized by section 464C(a) of the PHS Act (42 U.S.C. 285m-3(a));

(8) Grants for the construction or renovation of facilities for research into the development and use of medications to treat drug abuse and addiction, as authorized by section 464P(b) of the PHS Act (42 U.S.C. 285o-4(b));

(9) Grants to public and nonprofit private entities to expand, remodel, renovate, or alter existing biomedical and behavioral research facilities or construct new research facilities, as authorized by section 481A(a) of the PHS Act (42 U.S.C. 287a-2(a));

(10) Grants to public or nonprofit private entities to construct, renovate, or otherwise improve regional centers for research on primates, as authorized by section 481B(a) of the PHS Act (42 U.S.C. 287a-3(a));

(11) Grants to expand, remodel, renovate, or alter existing research facilities or construct new research facilities for the purpose of conducting minority health disparities research and other health disparities research, as authorized by section 485F(b)(2) of the PHS Act U.S.C. 287c-32(b)(2)); and

(12) Grants for the construction or renovation of facilities for carrying out AIDS research, as authorized by section 2354(a) of the PHS Act (42 U.S.C. 300cc-41(a)).

The Catalogue of Federal Domestic Assistance (CFDA) numbered programs affected by title 42 of the Code of Federal Regulations, part 52b are:

93.131—Shared Research Facilities for Heart, Lung, and Blood Diseases.

93.173—Research Related to Deafness and Communication Disorders.

93.279—Drug Abuse and Addiction Programs.

93.307—Minority Health and Health Disparities Research.

93.389—National Center for Research Services.

93.392—Cancer Construction.

93.846—Arthritis, Musculoskeletal and Skin Diseases Research.

93.855—Allergy, Immunology and Transplantation Research.

93.867—Vision Search.

Dated: May 19, 2006.
Elias A. Zerhouni,
Director, National Institutes of Health.
Approved: July 7, 2006.
Michael O. Leavitt,
Secretary.

[FR Doc. 06-6262 Filed 7-17-06; 8:45 am]

BILLING CODE 4140-01-M